DEPARTMENT OF TRANSPORTATION

Federal Aviation Administration

Second Meeting: RTCA Special Committee 232, Airborne Selective Calling Equipment

AGENCY: Federal Aviation Administration (FAA), U.S. Department of Transportation (DOT).

ACTION: Meeting Notice of RTCA Special Committee 232, Airborne Selective Calling Equipment.

SUMMARY: The FAA is issuing this notice to advise the public of the second meeting of RTCA Special Committee 232, Airborne Selective Calling Equipment.

DATES: The meeting will be held December 10-12 from 9:00 a.m.-5:00 p.m. on December 10th and 11th, 9:00 a.m.-12:00 p.m. on December 12th.

ADDRESSES: The meeting will be held at Boeing Flight Services Training Center Longacres 25-01 Building 1301 SW 16th Street, Renton, Washington 98055.

FOR FURTHER INFORMATION CONTACT: You may contact the RTCA Secretariat, 1150 18th Street NW., Suite 910, Washington, DC, 20036, or by telephone at (202) 833-9339, fax at (202) 833-9434, or Web site http://www.rtca.org for directions.

SUPPLEMENTARY INFORMATION: Pursuant to section 10(a) (2) of the Federal Advisory Committee Act (Pub. L. No. 92-463, 5 U.S.C., App.), notice is hereby given for a meeting of Special Committee 216.

December 10-12

• Welcome/Introductions/Administrative Remarks.

• Agenda Overview.

• Review/Approval of Minutes from Plenary #1

• Status of Other SELCAL Industry Activities/Committees

• Review of Selective Calling (SELCAL) Action Items

• Review SC-232 Completion Schedule

• Review of Draft MOPS

• Continue Drafting MOPS

• Other Business.

• Date and Place of Next Meetings.

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 10, 2014.
Mohannad Dawoud,
Management Analyst, NextGen, Program Oversight and Administration, Federal Aviation Administration.

[FR Doc. 2014-27307 Filed 11-18-14; 8:45 am]

BILLING CODE 4910-13-P